DEPARTMENT OF JUSTICE

Drug Enforcement Administration

[Docket No. DEA-392]

Importer of Controlled Substances Registration: Alltech Associates, Inc.

ACTION: Notice of registration.

SUMMARY: Alltech Associates, Inc., applied to be registered as an importer of certain basic classes of controlled substances. The DEA grants Alltech Associates, Inc., registration as an importer of those controlled substances.

SUPPLEMENTARY INFORMATION: By notice dated May 28, 2014, and published in the Federal Register on June 3, 2014, 79 FR 31986, Alltech Associates, Inc., 2051 Waukegan Road, Deerfield, Illinois 60015, applied to be registered as an importer of certain basic classes of controlled substances. No comments or objections were submitted for this notice.

The Drug Enforcement Administration (DEA) has considered the factors in 21 U.S.C. 823, 952(a) and 958(a) and determined that the registration of Alltech Associates, Inc., to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes of controlled substances listed:

Controlled substance | Schedule
Gamma Hydroxybutyric Acid (2010) | I
Lysergic acid diethylamide (7315) | I
Heroin (9200) | I
Cocaine (9041) | II
Codeine (9050) | II
Hydrocodone (9193) | II
Meperidine (9230) | II
Methadone (9250) | II
Morphine (9300) | II

The company plans to import these controlled substances for the manufacture of reference standards.

Dated: September 25, 2014.
Joseph T. Rannazzisi,
Deputy Assistant Administrator.

[FR Doc. 2014-23830 Filed 10-6-14; 8:45 am]

BILLING CODE 4410-09-P